ENVIRONMENTAL PROTECTION AGENCY

[EPA-HQ-OAR-2021-0126; FRL-9862-01-OMS]

Information Collection Request Submitted to OMB for Review and Approval; Comment Request; NESHAP for Polyvinyl Chloride and Copolymers Production Area Sources (Renewal)

AGENCY: Environmental Protection Agency (EPA).

ACTION: Notice.

SUMMARY: The Environmental Protection Agency (EPA) has submitted an information collection request (ICR), NESHAP for Polyvinyl Chloride and Copolymers Production Area Sources (EPA ICR Number 2454.05, OMB Control Number 2060-0684), to the Office of Management and Budget (OMB) for review and approval in accordance with the Paperwork Reduction Act. This is a proposed extension of the ICR, which is currently approved through May 31, 2022. Public comments were previously requested via the Federal Register (86 FR 19256) on April 13, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before June 27, 2022.

ADDRESSES: Submit your comments, referencing Docket ID Number EPA-HQ-OAR-2021-0126, online using https://www.regulations.gov/ (our preferred method), by email to docket.oeca@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit: http://www.epa.gov/dockets.

Abstract: The National Emission Standards for Hazardous Air Pollutants (NESHAP) for Polyvinyl Chloride and Copolymers Production Area Sources (40 CFR part 63, subpart DDDDDD) apply to existing facilities and new PVC and copolymer production facilities that are an area source of hazardous air pollutants (HAP). This ICR includes burden estimates for area sources only. Major sources are regulated under NESHAP Subpart HHHHHHH and their burdens are included in a separate ICR (OMB Control Number 2060-0666). New facilities include those that either commenced construction or reconstruction after the date of proposal. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to the NESHAP. This information is being collected to assure compliance with 40 CFR part 63, subpart DDDDDD.

Form Numbers: None.

Respondents/affected entities: Polyvinyl chloride and copolymer production area source facilities.

Respondent's obligation to respond: Mandatory (40 CFR 63, Subpart DDDDDD).

Estimated number of respondents: 3 (total).

Frequency of response: Initially, occasionally, and semiannually.

Total estimated burden: 73,300 hours (per year). Burden is defined at 5 CFR 1320.3(b).

Total estimated cost: $9,670,000 (per year), which includes $1,000,000 in annualized capital/startup and/or operation & maintenance costs.

Changes in the Estimates: The decrease in burden from the most-recently approved ICR is due to three adjustments. There is an adjustment decrease in the total estimated burden as currently identified in the OMB Inventory of Approved Burdens. The adjustment decrease in burden from the most-recently approved ICR is due to a decrease in the number of respondents. The most-recently approved ICR estimated 4 area source facilities; however, one facility has ceased operations, as reflected in the ICR for the most recent proposed rule (85 FR 71490, November 9, 2020), which was previously submitted to OMB for approval. Therefore, this ICR renewal considers there to be 3 area source facilities.

The adjustment decrease is offset by corrections to burden estimates for resin sampling, PRD electronic monitor review, gasholders, storage vessels, and ongoing inspections of bypasses and to the number of occurrences per year for recordkeeping requirements to more accurately reflect facility activities as shown in Table 1: Annual Respondent Burden and Cost—NESHAP for Polyvinyl Chloride and Copolymers Production Area Sources (40 CFR part 63, subpart DDDDDD) (Renewal).

There is a decrease in the operation and maintenance (O&M) costs as calculated in section 6(b)(iii) compared with the costs in the previous ICR. This decrease in costs is due to a decrease in the number of respondents and corrections made to the annual O&M costs for VC ambient monitoring and resin sampling and monitoring to more accurately reflect the number of monitors per facility and cost of monthly maintenance and service of a lab GC. The decrease is offset somewhat by corrections made to the cost estimates for uncontrolled wastewater testing and uncontrolled wastewater Non-VC TOHAP testing to more-accurately reflect the number of waste streams sampled per facility.

Courtney Kerwin,
Director, Regulatory Support Division.

[FR Doc. 2022-11348 Filed 5-25-22; 8:45 am]

BILLING CODE 6560-50-P